NATIONAL SCIENCE FOUNDATION

Business and Operations Advisory Committee

Notice of Meeting

In accordance with Federal Advisory Committee Act (Pub. L. 92-463, as amended), the National Science Foundation announces the following meeting:

Name: Business and Operations Advisory Committee (9556).

Date/Time: October 22, 2002; 8:30 a.m. to 5 p.m. (EST). October 23, 2002; 8:30 a.m. to 2 p.m. (EST).

Place: National Science Foundation, 4201 Wilson Boulevard, Room 1235, Arlington, VA.

Type of Meeting: Open.

Contact Person: Mary Ann Birchett, National Science Foundation, 4201 Wilson Boulevard, Arlington, VA 22230 (703) 292-8100.

Purpose of Meeting: To provide advice concerning issues related to the oversight, integrity, development and enhancement of NSF's business operations.

Agenda

October 22, 2002

AM: Introductions and Updates—Office of Budget, Finance, and Award Management and Office of Information and Resource Management activities.

Presentation and Discussion—NSF Business Analysis; NSF Academy.

PM: Presentation and Discussion—Meet with NSF Deputy Director; Office of Management Discussion—Performance Assessment; Integrating Budget, Cost, and Performance; NIH Presentation on Compliance.

PM: Discussion—Planning for next meeting; feedback; other business.

Reason for Late Notice: This notice is late because there were last minute revisions to the agenda.

Dated: October 9, 2002.
Susanne Bolton,
Committee Management Officer.

[FR Doc. 02-26133 Filed 10-11-02; 8:45 am]

BILLING CODE 7555-01-M